DEPARTMENT OF COMMERCE

International Trade Administration

[A-427-801]

Ball Bearings and Parts Thereof From France: Preliminary Results of Changed-Circumstances Review

AGENCY: Import Administration, International Trade Administration, Department of Commerce.

SUMMARY: The Department of Commerce is conducting a changed-circumstances review of the antidumping duty order on ball bearings and parts thereof from France pursuant to section 751(b) of the Tariff Act of 1930, as amended. We preliminarily determine that, after acquisition by NTN Corporation, SNR Roulements S.A. is the successor-in-interest to pre-acquisition SNR Roulements S.A. Interested parties are invited to comment on these preliminary results.

DATES: Effective Date: November 20, 2009.

FOR FURTHER INFORMATION CONTACT: Thomas Schauer or Richard Rimlinger, AD/CVD Operations, Office 5, Import Administration, International Trade Administration, U.S. Department of Commerce, 14th Street and Constitution Avenue, NW., Washington, DC 20230; (202) 482-0410 or (202) 482-4477, respectively.

SUPPLEMENTARY INFORMATION:

Background

On August 21, 2009, SNR Roulements S.A. (SNR) requested that, because NTN Corporation (NTN) acquired a 51-percent interest in SNR, the Department of Commerce (the Department) initiate a changed-circumstances review to determine whether post-acquisition SNR is the successor-in-interest to pre-acquisition SNR.

On September 18, 2009, we initiated a changed-circumstances review. See Ball Bearings and Parts Thereof From France: Initiation of Antidumping Duty Changed-Circumstances Review, 74 FR 47920 (September 18, 2009) (CCR Initiation).

On September 22, 2009, we sent a questionnaire to SNR. After granting SNR an extension of the deadline, SNR submitted a response on October 23, 2009.

Since the initiation of the review, no other interested party has submitted comments.

Scope of the Order

The products covered by the order are ball bearings and parts thereof. These products include all antifriction bearings that employ balls as the rolling element. Imports of these products are classified under the following categories: Antifriction balls, ball bearings with integral shafts, ball bearings (including radial ball bearings) and parts thereof, and housed or mounted ball bearing units and parts thereof.

Imports of these products are classified under the following Harmonized Tariff Schedule of the United States (HTSUS) subheadings: 3926.90.45, 4016.93.10, 4016.93.50, 6909.19.50.10, 8431.20.00, 8431.39.00.10, 8482.10.10, 8482.10.50, 8482.80.00, 8482.91.00, 8482.99.05, 8482.99.35, 8482.99.25.80, 8482.99.65.95, 8483.20.40, 8483.20.80, 8483.30.40, 8483.30.80, 8483.50.90, 8483.90.20, 8483.90.30, 8483.90.70, 8708.50.50, 8708.60.50, 8708.60.80, 8708.93.30, 8708.93.60.00, 8708.99.06, 8708.99.31.00, 8708.99.40.00, 8708.99.49.60, 8708.99.58, 8708.99.80.15, 8708.99.80.80, 8803.10.00, 8803.20.00, 8803.30.00, 8803.90.30, 8803.90.90.

As a result of changes to the HTSUS, effective February 2, 2007, the subject merchandise is also classifiable under the following additional HTSUS item numbers: 8708.30.50.90, 8708.40.75, 8708.50.79.00, 8708.50.89.00, 8708.50.91.50, 8708.50.99.00, 8708.70.60.60, 8708.80.65.90, 8708.93.75.00, 8708.94.75, 8708.95.20.00, 8708.99.55.00, 8708.99.68, 8708.99.81.80.

Although the HTSUS item numbers above are provided for convenience and customs purposes, the written description of the scope of the order remains dispositive.

Preliminary Results

In conducting this changed-circumstances review pursuant to section 751(b) of the Tariff Act of 1930, as amended (the Act), the Department has conducted a successor-in-interest analysis. In making a successor-in-interest determination, the Department examines several factors including, but not limited to, changes in the following: (1) Management; (2) production facilities; (3) supplier relationships; (4) customer base. See, e.g., Brake Rotors From the People's Republic of China: Final Results of Changed Circumstances Antidumping Duty Administrative Review, 70 FR 69941 (November 18, 2005), and Notice of Final Results of Changed Circumstances Antidumping Duty Administrative Review: Polychloroprene Rubber From Japan, 67 FR 58 (January 2, 2002). While no single factor or combination of factors will necessarily provide a dispositive indication of a successor-in-interest relationship, the Department will generally consider the new company to be the successor to the previous company if the new company's resulting operation is not materially dissimilar to that of its predecessor. See Fresh and Chilled Atlantic Salmon From Norway; Final Results of Changed Circumstances Antidumping Duty Administrative Review, 64 FR 9979 (March 1, 1999), and Industrial Phosphoric Acid From Israel; Final Results of Antidumping Duty Changed Circumstances Review, 59 FR 6944 (February 14, 1994).

Thus, if the evidence demonstrates that, with respect to the production and sale of subject merchandise, the new company operates as the same business entity as the former company, the Department will accord the new company the same antidumping treatment as its predecessor.

We preliminarily determine that post-acquisition SNR is the successor-in-interest to pre-acquisition SNR. In its August 21, 2009, and October 23, 2009, submissions, SNR provided evidence supporting its claim to be the successor-in-interest to pre-acquisition SNR. Specifically, SNR demonstrated that there were no changes in corporate structure or product mix and only minor changes in management, production facilities,¹ supplier base, or customer base. Moreover, NTN stated that it does not plan to make any significant changes to the pre-acquisition SNR production facilities, management personnel, sources of supply, and customer bases. NTN stated further that it intends to maintain, market, and promote the NTN and SNR brands separately in all markets and for all applications.

¹ The only changes in production facilities were minor changes in production capacity.

In summary, post-acquisition SNR has presented evidence to establish a prima facie case of its successorship status. The record indicates that the acquisition of SNR by NTN has not changed the operations of the company in a meaningful way. SNR's management, production facilities, supplier relationships, and customer base are substantially unchanged from their status or circumstances prior to the acquisition. The record evidence demonstrates that the new entity operates essentially in the same manner as the predecessor company. Consequently, we preliminarily determine that post-acquistion SNR should be assigned the same antidumping-duty treatment as pre-acquisition SNR.

Public Comment

Case briefs from interested parties may be submitted not later than 30 days after the date of publication of this notice of preliminary results of changed-circumstances review. Rebuttal briefs from interested parties, limited to the issues raised in the case briefs, may be submitted not later than five days after the time limit for filing the case briefs or comments. Parties who submit case briefs or rebuttal briefs in this proceeding are requested to submit with each argument a statement of the issue, a summary of the arguments not exceeding five pages, and a table of statutes, regulations, and cases cited.

Interested parties who wish to request a hearing or to participate in a hearing if a hearing is requested must submit a written request to the Assistant Secretary for Import Administration within 30 days of the date of publication of this notice. See 19 CFR 351.310(c). Such requests should contain the following information: (1) The party's name, address, and telephone number; (2) the number of participants; (3) a list of issues to be discussed. Issues raised in the hearing will be limited to those discussed in the case briefs. If requested, any hearing will be held two days after the scheduled date for submission of rebuttal briefs.

The Department will publish in the Federal Register a notice of the final results of this changed-circumstances review, including the results of its analysis of issues raised in any written briefs or at the hearing if requested.

As indicated in the CCR Initiation, during the course of this changed-circumstances review we will not change any cash-deposit requirements on entries of merchandise subject to the antidumping duty order unless a change is determined to be warranted pursuant to the final results of this changed-circumstances review.

We are issuing and publishing these preliminary results and notice in accordance with sections 751(b) and 777(i)(1) of the Act and 19 CFR 351.216.

Dated: November 16, 2009.
John M. Andersen,
Acting Deputy Assistant Secretary for Antidumping and Countervailing Duty Operations.

[FR Doc. E9-27929 Filed 11-19-09; 8:45 am]

BILLING CODE 3510-DS-P